DEPARTMENT OF ENERGY

Federal Energy Regulatory Commission

[Docket No. EL02-6-000]

Dynegy Midwest Generation, Inc. and Dynegy Power Marketing, Inc. Complainants v. Commonwealth Edison Company Respondent; Notice of Complaint

October 18, 2001.

Take notice that on October 17, 2001, Dynegy Midwest Generation, Inc. and Dynegy Power Marketing, Inc. (Dynegy) tendered for filing a Complaint against Commonwealth Edison Company, (ComEd).

In its Complaint, Dynegy alleges that ComEd has failed to properly enforce the network resource designation provisions of its Open Access Transmission Tariff (OATT). Dynegy further alleges that ComEd's actions jeopardize reliability, deprive Dynegy of revenues for capacity sales, and permits the improper prioritization of network transmission service for bumping and curtailment.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 26, 2001. Protests will be considered by the Commission in determining the appropriate action to be taken, but will not serve to make protestants parties to the proceeding. Any person wishing to become a party must file a motion to intervene. Answers to the complaint shall also be due on or before October 26, 2001. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26715 Filed 10-23-01; 8:45 am]

BILLING CODE 6717-01-P